DEPARTMENT OF COMMERCE

National Oceanic and Atmospheric Administration

[Docket No.021114276-2276-01; I.D. 120302C]

RIN 0648-ZB31

Financial Assistance for Environmental Education Projects in the Chesapeake Bay Watershed

AGENCY: National Marine Fisheries Service (NMFS), National Oceanic and Atmospheric Administration (NOAA), Department of Commerce.

ACTION: Notice of availability of funds.

SUMMARY: The purpose of this document is to invite the public to submit new proposals and to reapply for projects considered for continuation for available funding to implement environmental education projects in the following two priority areas: “Meaningful” Chesapeake Bay or Stream Outdoor Experience and Professional Development in the Area of Environmental Education for Teachers Within the Chesapeake Bay Watershed. Potential recipients may submit separate proposals for each priority area or may submit one proposal that addresses both priority areas. Funds are available to K-through-12 public and independent schools and school systems, institutions of higher education, community-based and nonprofit organizations, state or local government agencies, interstate agencies, and Indian tribal governments. This document describes the conditions under which project proposals will be accepted and criteria under which proposals will be evaluated for funding consideration. Selected recipients will enter into either a cooperative agreement or a grant. It is the intent of the NOAA Chesapeake Bay Office to continue with several existing relationships and to make awards through this program for projects pending successful progress reports and review. Therefore, funding for some proposals may be limited to ongoing projects.

DATES: Preliminary proposals must be received by 5 p.m. eastern standard time on January 16, 2003. Preliminary proposals received after that time will not be accepted. Full proposals must be received by 5 p.m. eastern standard time on March 17, 2003. Full proposals received after that time will not be considered for funding. Preliminary and full proposals will not be accepted electronically nor by facsimile machine submission.

ADDRESSES: You can obtain a proposal package from and send completed preliminary and full proposals to: Seaberry J. Nachbar, NOAA Chesapeake Bay Office, 410 Severn Avenue, Suite 107A, Annapolis, MD 21403. You can also obtain the proposal package from the NOAA Chesapeake Bay Office Education Home Page http://noaa.chesapeakebay.net/education.

FOR FURTHER INFORMATION CONTACT: Seaberry J. Nachbar, Education Coordinator, NOAA Chesapeake Bay Office, telephone: (410) 267-5664, or e-mail: seaberry.nachbar@noaa.gov.

SUPPLEMENTARY INFORMATION:

I. Introduction

A. Authority

The Fish and Wildlife Act of 1956, as amended, at 16 U.S.C. 753a, authorizes the Secretary of Commerce (Secretary), to develop adequate, coordinated, cooperative research and training programs for fish and wildlife resources, to continue to enter into cooperative agreements with colleges and universities, with game and fish departments of several states, and with nonprofit organizations relating to cooperative research units. The Secretary of Commerce, acting through the Under Secretary of Commerce for Oceans and Atmosphere, is authorized by 15 U.S.C. 1540 to enter into cooperative agreements and other financial agreements with any nonprofit organization to aid and promote scientific and educational activities to foster public understanding of the National Oceanic and Atmospheric Administration or its programs. This announcement is subject to the availability of funding under the Departments of Commerce (DOC), State, the Judiciary, and Related Agencies Appropriations Act of 2003 make funds available to the Secretary.

B. Catalog of Federal Assistance (CFDA)

The projects to be funded are in support of the Chesapeake Bay Studies (CFDA 11.457), under the Chesapeake Bay Watershed Education and Training Program.

C. Program Description

The NOAA Chesapeake Bay Office's (NCBO)Bay Watershed Education and Training (B-WET) Program was established in 2002 to provide environment-based education to students, teachers, and communities throughout the Chesapeake Bay watershed. Using the environment as the context for learning has been shown to increase a student's academic achievement performance, enthusiasm and engagement for learning, and encourages greater pride and ownership in accomplishments. The environment can provide a platform upon which educators can create a curriculum that interests learners and revitalizes teachers.

The B-WET grant program is a competitively based program that supports existing environmental education programs, fosters the growth of new programs, and encourages the development of partnerships among environmental education programs throughout the entire Chesapeake Bay watershed. Funded projects assist in meeting the Stewardship and Community Engagement goals of the Chesapeake 2000 agreement (see Stewardship and Meaningful Watershed Educational Experiences document for details http://www.chesapeakebay.net/pubs/subcommittee/cesc/c2k.pdf). Projects support organizations that provide students “meaningful” Chesapeake Bay or stream outdoor experiences and teachers professional development opportunities in the area of environmental education. The B-WET Program has an opportunity to create a population that is knowledgeable about the Chesapeake Bay watershed environment. Environmentally educated individuals can become effective future workers, problem solvers, and thoughtful community leaders and participants.

II. Priority Areas and Evaluation Criteria

All projects must address State (DE, MD, NY, PA, VA, WV) and/or District (DC) academic learning standards. Proposals should address one or both of the two priority areas: (1) “Meaningful” Chesapeake Bay or Stream Outdoor Experience; or (2) Professional Development in the Area of Environmental Education for Teachers Within the Chesapeake Bay Watershed. Potential recipients may submit separate proposals for each priority area or may submit one proposal that addresses both priority areas.

A. “Meaningful” Chesapeake Bay or Stream Outdoor Experience

The NCBO seeks proposals for projects that provide opportunities for students (K through 12) to participate in a “meaningful” Chesapeake Bay or stream outdoor experience. The Chesapeake Bay, with its tributaries, provides an excellent opportunity for environmental education. In many cases, its tidal and non-tidal waters and the surrounding landscape provide “hands-on” laboratories where students can see, touch, and learn about the Chesapeake Bay watershed and the greater environment. In other cases, the Bay watershed can be brought alive to the classroom through a strong complement of outdoor and classroom experiences. The Chesapeake Bay and its tributaries should be considered a living resource that provides a genuine, locally relevant source of environmental knowledge that can be used to help advance student learning skills and problem-solving abilities across the entire school curriculum.

Total anticipated funding is about $925,000. Of the amount available for this priority area, about $825,000 will be awarded to larger organizations that provide environmental education programs and up to $100,000 to smaller, community-based organizations that work at a local level to provide environmental education programs.

Proposals will be evaluated on the following seven criteria. Reviewers will assign scores ranging from 0 to 100 points.

1. Experiences follow the scope and sequence of a “meaningful” Chesapeake Bay or stream outdoor experience: This part of the program comprises a series of concepts and perceptions appropriate for K- through 12-grade students. See also the Stewardship and Meaningful Watershed Educational Experiences document (http://www.chesapeakebay.net/pubs/subcommittee/cesc/c2k.pdf). (15 points)

a. From K to 5. Experiences should be neighborhood-based and reinforce such basic concepts as maps and models, habitat principles, and the concept of the water cycle and watersheds.

b. From 6 to 8. Experiences should focus on team and class projects and investigations, conducted in or near water. Experiences should reinforce science, mathematics, and technology skills developed in middle school.

c. From 9 to 12. Experiences should be first-hand knowledge in or near water and should relate to the earth and biological sciences, concepts developed in civics and government, and attitudes reinforcing responsible citizenship.

2. “Meaningful” Chesapeake Bay or stream outdoor experiences are hands-on and investigative or project-oriented: Experiences should include activities where questions, problems, and issues are investigated through data collection, observation, and hands-on activities. Experiences should stimulate observation, motivate critical thinking, develop problem-solving skills, and instill confidence in students. Experiences should not be limited to tours, gallery visits, simulations, demonstrations, or “nature” walks but should encourage the student to assist, share, communicate, and connect directly with the outdoors. Experiences do not have to be water-based activities directly on the Bay, tidal rivers, streams, creeks, ponds, wetlands, or other bodies of water. As long as there is an intentional connection to water quality, watershed, and the larger ecological system, outdoor experiences may include terrestrial activities (e.g., erosion control, buffer creation, groundwater protection, and pollution prevention). (15 points)

3. “Meaningful” Chesapeake Bay or stream outdoor experiences are richly structured: Experiences should consist of three general parts, not necessarily occurring in this order- a preparation phase; an outdoor phase; and an analysis, reporting phase. Projects should provide teachers with the support, materials, resources, and information needed to conduct these three parts. The preparation phase should focus on a question, problem, or issue and involve students in discussions about it. The action phase should include one or more outdoor experiences sufficient to conduct the project, make the observations, or collect the data required. The reflection phase should refocus on the question, problem, or issue; analyze the conclusions reached; evaluate the results; and assess the activity and the learning. (15 points)

4. Projects are new or significantly enhanced: Proposals should consist of a project that is new to an organization's environmental education program or includes additions that significantly enhance an existing project. For example, projects could include different participants, focus on a new audience, concentrate on a different geographic location, or employ new techniques, methods, or ideas. (10 points)

5. Projects demonstrate partnerships: Project proposals should include partners involving any of the eligible applicants. Partnerships refers to the forming of a collaborative working relationship between two or more organizations. The B-WET Program strongly encourages applicants to partner with schools and/or school systems. All partners should be actively involved in the project, not just supply equipment or curricula. (20 points)

6. Justification and allocation of the proposed budget: Proposals will be evaluated on the reasonableness of the proposed budget. (15 points)

7. Project evaluation: Explain how you will ensure that you are meeting the goals and objectives of your project. Evaluation plans may be quantitative and/or qualitative and may include, for example, evaluation tools, observation, or outside consultation.(10 points)

B. Professional Development in the Area of Environmental Education for Teachers within the Chesapeake Bay Watershed

The NCBO seeks proposals for projects that provide Kthrough-12 teachers within the Chesapeake Bay watershed opportunities for professional development in the area of environmental education. As the purveyors of education, teachers can ultimately make meaningful environmental education experiences for students by weaving together classroom and field activities within the context of their curriculum and of current critical issues that impact the watershed. Systematic, long-term professional development opportunities will reinforce a teacher's ability to teach, inspire, and lead young people toward thoughtful stewardship of our natural resources.

Total anticipated funding is about $925,000. Proposals will be evaluated on the following six criteria. Reviewers will assign scores ranging from 0 to 100 points.

1. Projects should be developed to provide teachers with the teaching of a “meaningful” Chesapeake Bay or stream outdoor experience and promote follow-through by encouraging teachers to implement a “meaningful” Bay or stream outdoor experience in their classroom: Projects should ensure that professional development experiences for the teacher ultimately benefit the student. Professional development opportunities should instruct teachers about a “meaningful” Chesapeake Bay or stream outdoor experience (for details see the Stewardship and Meaningful Watershed Educational Experiences document http://www.chesapeakebay.net/pubs/subcommittee/cesc/c2k.pdf) and encourage teachers to implement a “meaningful” Chesapeake Bay or stream outdoor experience in their classroom. For example, professional development courses could result in a lesson plan; provide teachers with materials, or resources needed for carrying out a “meaningful” Chesapeake Bay or stream outdoor experience in their classroom; and/or require teachers to document how they will incorporate what they have just learned into the classroom. A point of contact should be provided to the teacher for technical support during the school year. (30 points)

2. Projects involve external sharing and communication: Projects should promote peer-to-peer sharing and emphasize the need for external sharing and communication. Projects should include a mechanism that encourages teachers to share their experiences with other teachers and with the environmental education community. (15 points)

3. Projects are new or significantly enhanced: Proposals should consist of a project that is new to an organization's environmental education program or that includes additions that significantly enhance an existing project. For example, projects could include different participants, focus on a new audience, concentrate on a different geographic location, or employ new techniques, methods, or ideas. (10 points)

4. Projects demonstrate partnerships: Project proposals should include partners involving any of the eligible applicants. Partnerships refers to the forming of a collaborative working relationship between two or more organizations. The B-WET Program strongly encourages applicants to partner with schools and/or school systems. All partners should be actively involved in the project, not just supply equipment or curricula. (20 points)

5. Justification and allocation of the proposed budget: Proposals will be evaluated on the reasonableness of the proposed budget. (15 points)

6. Project evaluation: Explain how you will ensure that you are meeting the goals and objectives of your project. Evaluation plans may be quantitative and/or qualitative and may include, for example, evaluation tools, observation, or outside consultation. (10 points)

III. Funding

A. Funding Availability

This solicitation announces that approximately $1.85M may be available in FY 2003, in award amounts to be determined by the proposals and available funds. Applicants are hereby given notice that funds have not yet been appropriated for this program.

About $925,000 will be for proposals that provide opportunities for students (K through 12) to participate in a “Meaningful” Chesapeake Bay or Stream Outdoor Experience. Of the amount available for this priority area, about $825,000 will be awarded to larger organizations that provide environmental education programs and about $100,000 will be awarded to smaller, community-based organizations that work at a local level to provide environmental education programs. About $925,000 will be for proposals that provide opportunities for Professional Development in the area of Environmental Education for Teachers within the Chesapeake Bay Watershed.

It is the intent of the NOAA Chesapeake Bay Office to continue with several existing relationships and to make awards through this program for projects pending successful progress reports and review. Therefore, funding for some proposals may be limited to ongoing projects.

There is no guarantee that sufficient funds will be available to make awards for all qualified projects. The exact amount of funds that may be awarded will be determined in pre-award negotiations between the applicant and the NOAA representatives. Publication of this notice does not oblige NOAA to award any specific project or to obligate any available funds. If one incurs costs prior to receiving an award agreement signed by an authorized NOAA official, one would do so solely at one's own risk of these costs not being included under the award.

The Department of Commerce Pre-Award Notification of Requirements for Grants and Cooperative Agreements contained in the Federal Register notice of October 1, 2001 (66 FR 49917), as amended by the Federal Register notice published October 30, 2002 (67 FR 66109), is applicable to this solicitation.

B. Award Limits

The NCBO anticipates that typical project awards for “Meaningful” Bay or Stream Outdoor Experiences and Professional Development in the Area of Environmental Education for Teachers will range from $10,000 to $150,000. Proposals will be considered for funds greater than the specified ranges.

C. Continuation of Projects

Proposals may be considered eligible for continuation beyond the first project and budget period. Proposals may be submitted up to 3 years. However, funds will be made available for only a 12-month award period and any continuation of the award period will be subject to an approved scope of work, satisfactory progress, a panel review, and available funding to continue the award. No assurance for a funding continuation exists; funding will be at the complete discretion of NOAA.

First-year proposals must include a full description of the activities and budget for the first year as described in this announcement, and should include a summary description of the proposed work for each subsequent year and a estimated budget by line item (without the supporting budget detail pages) for review and analysis. If selected for funding the applicant will be required to submit a full proposal for the second year by the deadline announced in the following year's competitive cycle. Proposals will be evaluated through a review panel process, but will not be subject to competition with new proposals.

D. Funding Instrument

Whether the funding instrument is a grant or a cooperative agreement will be determined by the amount of NCBO's involvement in the project. A cooperative agreement will be used if NCBO is involved substantially in:

1. Monitoring the progress of each funded project; and

2. Working with the recipients to prepare annual reports summarizing current accomplishments of the project.

E. Cost-sharing Requirements

The NCBO strongly encourages applicants applying for either priority area to leverage as much investment as possible. Federal funds may not be considered matching funds. The nature of the contribution (cash versus in-kind) and the amount of matching funds will be taken into consideration in the final selection process.

IV. Instructions for Application

A. Eligible Applicants

Eligible applicants for both priority areas (i.e., “Meaningful” Chesapeake Bay or Stream Outdoor Experience and Professional Development in the Area of Environmental Education for Teachers Within the Chesapeake Bay Watershed) are K-through-12 public and independent schools and school systems, institutions of higher education, community-based and nonprofit organizations, state or local government agencies, interstate agencies, and Indian tribal governments in the Chesapeake Bay watershed.

The Department of Commerce/ National Oceanic and Atmospheric Administration (DOC/NOAA) is strongly committed to broadening the participation of historically black colleges and universities, Hispanic serving institutions, tribal colleges and universities, and institutions that work in undeserved areas. The NCBO encourages proposals involving any of the above institutions.

B. Project Start Dates

Projects should not begin before August 1, 2003.

C. Preliminary Proposals

Applicants may submit a preliminary proposal prior to submitting a full proposal. Preliminary proposals will undergo an assessment to be reviewed by program staff and other reviewers to determine if the proposed project is aligned with program priorities. This assessment process is intended to form the basis for providing feedback as to how the proposal may more closely align with program priorities. Under this type of process, regardless of any feedback that a potential applicant may receive in response to a preliminary proposal, the applicant still has a right to submit a complete new application under the program.

It is strongly encouraged that applicants are involved in the preliminary proposal process and incorporate preliminary proposal feedback into the full proposal. Participation in this process will be taken into consideration in the final selection process. Applicants will receive feedback approximately four weeks after the preliminary proposal deadline.

D. Format and Requirements

Preliminary and full proposals must be complete and must follow the format described in this notice. Potential recipients may submit separate proposals for each priority areas (i.e., “Meaningful” Chesapeake Bay or Stream Outdoor Experience or Professional Development in the Area of Environmental Education for Teachers Within the Chesapeake Bay Watershed) or may submit one proposal that addresses both priorities. Applicants should not assume prior knowledge on the part of the NCBO as to the relative merits of the project described in the application.

1. Preliminary proposal format: Applicants are required to submit two copies of the preliminary proposal. Preliminary proposal format must be in at least a 10-point font, one-sided, and no more than two pages in length. Preliminary proposals that are longer than two pages will not be considered. No institutional signatures or Federal government forms are needed while submitting preliminary proposals. The following information should be included:

(1) Organization title.

(2) Principal Investigator (PI).

(3) Address, telephone number, and email address of applicant.

(4) Priority area(s) for which you are applying (i.e., “Meaningful” Chesapeake Bay or Stream Outdoor Experience; Professional Development in the Area of Environmental Education for Teachers in the Chesapeake Bay Watershed).

(5) Project title.

(6) Geographical area of focus.

(7) Project objectives.

(8) Explain how your project addresses State (DE, MD, NY, PA, VA, WV) and/or District (DC) academic learning standards and the definition of a “meaningful” watershed educational experience.

(9) Summary of work to be performed (include demographics of the audience to be served and the number of students and/or teachers to be involved).

(10) Total Federal funds requested.

(11) Tentative partners involved in project.

2. Full proposal format: Applicants are required to submit one signed original and two copies of the full proposal. Proposal format must be in at least a 10-point font, double-spaced, unbound, and one-sided. Brevity will assist reviewers and program staff in dealing effectively with proposals. Therefore, the Project Description may not exceed 15 pages. Tables and visual materials, including charts, graphs, maps, photographs, and other pictorial presentations are not included in the 15-page limitation. Appendices may be included but must not exceed a total of 10-pages in length. Appendices may include information such as curriculum, resumes, and/or letters of endorsement. Additional informational material will be disregarded. Proposals must include the following information:

a. Project summary (1-page limit): It is recommended that each proposal contain a summary of no more than one page that provides the following:

(1) Organization title.

(2) Address, telephone number, and email address of applicant.

(3) Priority area(s) for which you are applying (i.e., “Meaningful” Chesapeake Bay or Stream Outdoor Experience; Professional Development in the Area of Environmental Education for Teachers in the Chesapeake Bay Watershed).

(4) Project title.

(5) Project duration (one year project period beginning to end dates, starting on the first of the month and ending on the last day of the month). Please note if projects are being submitted with the intent of continuation beyond the first year.

(6) Principal Investigator(s) (PI).

(7) Project objectives.

(8) Summary of work to be performed (include number of teachers and/or students that will be involved in your project).(9) Total Federal funds requested.

(10) Cost-sharing to be provided from non-Federal sources, if any. Specify whether contributions are project-related cash or in-kind.

(11) Total project cost.

b. Project description (15-page limit): Describe precisely what your project will achieve why, how, who, and where. The project description should include results from prior B-WET Program support, if applicable.

(1) Why: Explain the purpose of your project. This should include a clear statement of the work to be undertaken and include the following:

-Explain specifically how your project addresses State (DE, MD, NY, PA, VA, WV) and/or District (DC) academic learning standards and how it is integrated into the current school curriculum.

-Explain which priority area(s) your project addresses (i.e., (1)"Meaningful” Chesapeake Bay or Stream Outdoor Experience;(2) Professional Development in the Area of Environmental Education for Teachers Within the Chesapeake Bay Watershed).

-Specifically describe how your project addresses each of the evaluation criteria listed in that priority area (i.e., each of the seven criteria for the “Meaningful” Chesapeake Bay or Stream Outdoor Experience priority area or each of the six criteria for the Professional Development in the area of Environmental Education for Teachers within the Chesapeake Bay Watershed priority area).

(2) How: Outline a plan of action pertaining to the scope and detail of how the proposed work will be accomplished. Explain your strategy, objectives, activities, delivery methods, and accomplishments to establish for reviewers that you have realistic goals and objectives and that you will use effective methods to achieve them. When accomplishments cannot be quantified, list the activities in chronological order to show the schedule of accomplishments and target completion dates.

-Project Objectives: Objectives should be simple and understandable; as specific and quantitative as possible; clear as to the “what and when,” but should avoid the “how and why.” Projects should be accomplishment oriented and identify specific performance measures.

(3) Who: Explain who will conduct the project. Include the following:

-List each organization, cooperator, or other key individuals who will work on the project, along with a short description of the nature of their effort or contribution.

-Identify the target audience and demonstrate an understanding of the needs of that audience (include specifically how many students and/or teachers are involved in your project).(4) Where: Give a precise location of the project and area(s) to be served.

c. Need for government financial assistance: Demonstrate the need for assistance. Explain why other funding sources cannot fund all the proposed work.

d. Benefits or results expected: Identify and document the results or benefits to be derived from the proposed activities.

e. Total project costs: Total project costs are the amount of funds required to accomplish what is proposed in the Project Description and include contributions and donations.

Explain the calculations and provide a narrative to support specific items or activities, such as personnel/salaries, fringe benefits, travel, equipment, supplies, contract costs, and indirect costs. The budget detail and narrative submitted with the application should match the dollar amounts on all required forms. Additional cost detail may be required prior to a final analysis of overall cost allowability, allocability, and reasonableness. Please Note the following funding restrictions:

-The budget may include an amount for indirect costs if the applicant has an established indirect cost rate with the Federal government, see Administrative Requirements, Section VI, B.

-Funds for salaries and fringe benefits may be requested only for those personnel who are directly involved in implementing the proposed project and whose salaries and fringe benefits are directly related to specific products or outcomes of the proposed project. NOAA strongly encourages applicants to request reasonable amounts of funding for salaries and fringe benefits to ensure that your proposal is competitive.

f. Letters of support from partners: Letters of support should be included for partners that are making a significant contribution to the project, if applicable.

3. Federal forms: Applicants may obtain required Federal forms from the NOAA Chesapeake Bay Office Web site (see ADDRESSES) or from the NOAA Grants Web site: http://www.rdc.noaa.gov/grants/index.html.

a.Cover sheet: All applicants must use Office of Management and Budget (OMB) Standard Form 424 (revised 7/97) as the cover sheet for each project.

b. Budget form: All applicants must use a Standard Budget Form (SF-424A) required for all Federal grants.

c. Form CD-511: All applicants must submit a CD-511, “Certification Regarding Debarment, Suspension and Other Responsibility Matters; Drug-Free Workplace Requirements and Lobbying”.

d. SF-424B: All applicants must submit a SF-424B, “Assurances of Non-Construction Programs”.

e. CD-346 “Applicant for Funding Assistance”: Required for the following individuals-Sole Proprietorship, Partnerships, Corporations, Joint Venture, Non-profit Organizations.

V. Selection Procedures

A. Initial Evaluation of the Applications

NOAA will review all applications to assure that they meet all the requirements of this announcement, including eligibility and relevance to the Bay Watershed Education and Training (B-WET) Program.

B. Technical Review

New applications meeting the requirements of this solicitation will undergo an external technical review. This review will normally involve individuals in the field of environmental education from both NOAA and non-NOAA organizations. Proposals will be scored based on the evaluation criteria as defined in Section II (A) and II (B). Reviewers will be asked to review independently and to provide a score and comments on each proposal. No consensus advice will be given by the technical reviewers.

C. Review Panel

The NCBO will convene a review panel consisting of at least three experts in the field of environmental education.

1. Projects considered for continuation: The review panel will discuss existing proposals that were awarded with the possibility of continuation. Review panel members will take into consideration the successful completion of the project within the defined project period, whether the goals of the project were achieved, and the cost effectiveness of the project. Review panel members will then independently determine whether the projects should be considered for continuation. No consensus advice will be given by the reviewer panel members.

2. New proposals: The review panel will then discuss new proposals as a panel, incorporating the evaluation provided by the technical reviewers. The reviewers may then take into account the following: (a) diversity of geographic location, (b) diversity of applicants, and (c) proposed budget. Each review panel member will then score the submitted new applications individually on a scale from 1 (poor) to 5 (excellent). No consensus advice will be given by the review panel members.

D. Funding Decision

New proposals will then be evaluated and ranked numerically for funding based upon the technical and the panel review scores by the Program staff. After the new proposals have been ranked, the Chief of the NCBO, in consultation with Program staff, will determine which projects will be recommended for funding. Existing proposals with the possibility of continuation will take priority over new proposals.

Numerical ranking will be the primary consideration for deciding which of the new proposals will be selected for funding. However, in making the final selections, the Chief of the NCBO may also consider matching leverage, duplication with other projects, participation of the projects in the preliminary proposal process, and program goals. Accordingly, numerical ranking is not the sole factor in deciding which new proposals will be selected for funding. The Chief of the NCBO will prepare a written justification for any recommendations for funding that fall outside the ranking order, or any cost adjustments. The exact amount of funds awarded to each project will be determined in pre-award negotiations among the applicant, the Grants Office, and the NCBO staff. Potential grantees should not initiate projects in expectation of Federal funding until an award document signed by an authorized NOAA official has been received.

Unsuccessful applications will be kept on file in the Program office for a period of at least 12 months, then destroyed.

VI. Administrative Requirements

A. Pre-award Notification Requirements

The Department of Commerce Pre-Award Notification of Requirements for Grants and Cooperative Agreements contained in the Federal Register Notice of October 1, 2001 (66 FR 49917), as amended by the Federal Register Notice published October 30, 2002 (67 FR 66109) is applicable to this solicitation.

B. Indirect Cost Rates

Regardless of any approved indirect cost rate applicable to the award, the maximum dollar amount of allocable indirect costs for which the Department of Commerce will reimburse the recipient shall be the lesser of the line item amount for the Federal share of indirect costs contained in the approved budget of the award, or the Federal share of the total allocable indirect costs of the award based on the indirect cost rate approved by an oversight or cognizant Federal agency and current at the time the cost was incurred, provided the rate is approved on or before the award end date. However, the Federal share of the indirect costs may not exceed 25 percent of the total proposed direct costs for this Program. Applicants with indirect costs above 25 percent may use the amount above the 25 percent level as cost sharing. If the applicant does not have a current negotiated rate and plans to seek reimbursement for indirect costs, documentation necessary to establish a rate must be submitted within 90 days of receiving an award.

C. Allowable Costs

Funds awarded cannot necessarily pay for all the costs that the recipient might incur in the course of carrying out the project. Allowable costs are determined by reference to the OMB Circulars A-122, “Cost Principles for Nonprofit Organizations"; A-21, “Cost Principles for Education Institutions"; and A-87, “Cost Principles for State, Local and Indian Tribal Governments.” Generally, costs that are allowable include salaries, equipment, supplies, and training, as long as these are “necessary and reasonable."

Classification

This action has been determined to be “not significant” for purposes of Executive Order 12866. Applications under this program are subject to Executive Order 12372, “Intergovernmental Review of Federal Programs."

Under section 553 (a)(2) of the Administrative Procedure Act, prior notice and an opportunity for public comment are not required for this notice concerning grants, benefits, and contracts. Therefore, a regulatory flexibility analysis is not required for the purposes of the Regulatory Flexibility Act.

This notice contains collection-of-information requirements subject to the Paperwork Reduction Act. The use of Standard Forms 424, 424A, and 424B has been approved by OMB under the respective control numbers 0348-0044, 0348-0044, and 0348-0040.

Notwithstanding any other provision of the law, no person is required to respond to, nor shall any person be subject to a penalty for failure to comply with a collection of information subject to the requirements of the Paperwork Reduction Act unless that collection displays a currently valid OMB control number.

Dated: December 10, 2002.
Rebecca Lent
Deputy Assistant Administrator for Regulatory Programs, National Marine Fisheries Service.

[FR Doc. 02-31697 Filed 12-16-02; 8:45 am]

BILLING CODE 3510-22-S